NEIGHBORHOOD REINVESTMENT CORPORATION

Regular Board of Directors Meeting; Sunshine Act

TIME & DATE: 2:00 p.m., Wednesday, April 11, 2018

PLACE: NeighborWorks America—Gramlich Boardroom 999 North Capitol Street NE, Washington DC 20002

STATUS: Open (with the exception of Executive Sessions)

CONTACT PERSON: Jeffrey T. Bryson, Interim President & CEO (202) 760-4101; JBryson@nw.org

Agenda:

I. Call to Order

II. Approval of Minutes

III. Executive Session: Report from Interim CEO

IV. Executive Session: Internal Audit Update

V. Executive Session: Recognition of Service for Mr. Hoenig

VI. Executive Session: Approve Final FY18 Budget

VII. Approve NY Office Lease/Relocation

VIII. Approve Delegation of Authority Increase

IX. WeConnect Roadmap

X. Events and Training Mgmt. System

XI. 2017 Culture Survey Results

XII. Management Program Background and Updates

XIII. Adjournment

The General Counsel of the Corporation has certified that in his opinion, one or more of the exemptions set forth in 5 U.S.C. 552 (b)(2) and (4) permit closure of the following portion(s) of this meeting:

• External Audit Update

• Audit Committee Report

• Report from CEO

Jeffrey T. Bryson,
Interim President & CEO.

[FR Doc. 2018-06630 Filed 3-28-18; 4:15 pm]

BILLING CODE 7570-02-P